DEPARTMENT OF COMMERCE

International Trade Administration

[A-533-809]

Stainless Steel Flanges from India: Notice of Initiation of Antidumping Duty New Shipper Review

AGENCY: Import Administration, International Trade Administration, Department of Commerce.

ACTION: Notice of initiation of new shipper antidumping duty review.

SUMMARY: The Department of Commerce (the Department) has received requests for new shipper reviews of the antidumping duty order on certain forged stainless steel flanges from India issued on February 9, 1994 (59 FR 5994). In accordance with section 751(a)(2)(B) of the Tariff Act of 1930, as amended (the Act) and 19 CFR 351.214(d) (2003), we are initiating an antidumping new shipper review of Hilton Forge (Hilton). We have also determined not to initiate new shipper reviews of Shree Ganesh Forgings, Ltd. (Shree Ganesh) and Paramount Forge (Paramount), exporters and producers that also requested new shipper reviews.

DATES: October 6, 2004.

FOR FURTHER INFORMATION CONTACT: Fred Baker, Michael Heaney, or Robert James, AD/CVD Enforcement Office 7, Import Administration, International Trade Administration, U.S. Department of Commerce, 14th Street and Constitution Avenue, NW., Washington, DC 20230, telephone: (202) 482-2924, (202) 482-4475, or (202) 482-0649, respectively.

SUPPLEMENTARY INFORMATION:

Background

The Department received three timely requests, in accordance with section 751(a)(2)(B) of the Act and 19 CFR 351.214(d) of the Department's regulations, for new shipper reviews of the antidumping duty order on certain forged stainless steel flanges (flanges) from India. See Amended Final Determination and Antidumping Duty Order; Certain Forged Stainless Steel Flanges from India, 59 FR 5994 (February 9, 1994). See also the letters to the Secretary of Commerce dated August 31, 2004, requesting new shipper reviews on behalf of Hilton, Paramount, and Shree Ganesh, exporters/producers of flanges.

Pursuant to the Department's regulations at 19 CFR 351.214(b), Hilton certified in its August 31, 2004, submission that it did not export subject merchandise to the United States during the period of the investigation (POI) (July 1, 1992, through December 31, 1992), and that it was not affiliated with any exporter or producer of the subject merchandise to the United States during the POI. Hilton also submitted documentation establishing the date on which it first shipped the subject merchandise for export to the United States, the volume shipped, and the date of its first sale to its unaffiliated customer in the United States.

Paramount certified in its August 31, 2004, submission that it did not export subject merchandise to the United States during the POI, and that it was not affiliated with any exporter or producer of the subject merchandise to the United States during the POI. It also submitted documentation establishing the volume of its first shipment to the United States. However, it did not submit documentation establishing either the date of its first shipment to the United States, the entry date of the first shipment, or the date of sale of the first shipment. Since this information is required under 351.214(b)(iv) of the Department's regulations, we find Paramount's request deficient, and we are not initiating a new shipper review of it.

Shree Ganesh certified in its August 31, 2004, submission that it did not export subject merchandise to the United States during the POI, and that it was not affiliated with any exporter or producer of the subject merchandise to the United States during the POI. However, it submitted no documentation establishing the date on which it first shipped the subject merchandise for export to the United States, the volume shipped, or the date of the first sale to an unaffiliated customer in the United States. Shree Ganesh did address these questions in its cover letter, but did not submit “documentation establishing” the answers to them as required by 19 CFR 351.214(b)(iv). Furthermore, the results of a Customs data query indicated that Shree Ganesh's first shipment to the United States entered U.S. Customs territory in December 1997, and thus that its first shipment to the United States was not the one reported in its August 31, 2004, submission. For these reasons we find Shree Ganesh's request for a new shipper review deficient, and we are not initiating a new shipper review of it.

Initiation of Review

In accordance with section 751(a)(2)(B) of the Act and section 351.214(d) of the Department's regulations, we are initiating a new shipper review of the antidumping duty order on flanges from India manufactured and exported by Hilton. This review covers the period February 1, 2004, through July 31, 2004. We intend to issue the preliminary results of this review no later than 180 days after the date on which this review is initiated, and the final results within 90 days after the date on which we issue the preliminary results. See section 751(a)(2)(B)(iv) of the Act.

We will instruct the Customs Service to suspend liquidation of any unliquidated entries of the subject merchandise from Hilton and allow, at the option of the importer, the posting, until completion of the reviews, of a bond or security in lieu of a cash deposit for each entry of the merchandise exported by Hilton in accordance with 19 CFR 351.214(e). Because Hilton certified that it both produces and exports the subject merchandise, the sale of which is the basis for this new shipper review request, we will permit the bonding privilege only for those entries of subject merchandise for which Hilton is both the manufacturer and the exporter.

Interested parties may submit applications for disclosure under administrative protective order in accordance with 19 CFR 351.305 and 351.306.

This initiation and this notice are in accordance with section 751(a) of the Act and section 351.214(d) of the Department's regulations.

Dated: September 30, 2004.
Gary Taverman,
Acting Deputy Assistant Secretary, Import Administration.

[FR Doc. E4-2525 Filed 10-5-04; 8:45 am]

BILLING CODE 3510-DS-P